SECURITIES AND EXCHANGE COMMISSION

[File No. 500-1]

GDT Tek, Inc., Gemini Explorations, Inc., Genetic Vectors, Inc., and Global Gate Property Corp.; Order of Suspension of Trading

July 2, 2013.

It appears to the Securities and Exchange Commission that there is a lack of current and accurate information concerning the securities of GDT Tek, Inc. because it has not filed any periodic reports since the period ended June 30, 2010.

It appears to the Securities and Exchange Commission that there is a lack of current and accurate information concerning the securities of Gemini Explorations, Inc. because it has not filed any periodic reports since the period ended July 31, 2009.

It appears to the Securities and Exchange Commission that there is a lack of current and accurate information concerning the securities of Genetic Vectors, Inc. because it has not filed any periodic reports since the period ended September 30, 2000.

It appears to the Securities and Exchange Commission that there is a lack of current and accurate information concerning the securities of Global Gate Property Corp. because it has not filed any periodic reports since the period ended March 31, 2011.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on July 2, 2013, through 11:59 p.m. EDT on July 16, 2013.

By the Commission.
Jill M. Peterson,
Assistant Secretary.

[FR Doc. 2013-16272 Filed 7-2-13; 4:15 pm]

BILLING CODE 8011-01-P